FEDERAL MINE SAFETY AND HEALTH REVIEW COMMISSION

Sunshine Act Notice

Time And Date: 2 p.m., Wednesday, March 24, 2010.

Place: The United States Department of Labor Auditorium, Frances Perkins Building, 200 Constitution Avenue, NW., Washington, DC.

Status: Open.

Matters To Be Considered: The Commission will hear oral argument in the matter Secretary of Labor v. Eastern Associated Coal Corporation, Docket No. WEVA 2007-335. (Issues include whether certain violations of roof control requirements constituted an “unwarrantable failure to comply.”)

Any person attending this oral argument who requires special accessibility features and/or auxiliary aids, such as sign language interpreters, must inform the Commission in advance of those needs. Subject to 29 CFR 2706.150(a)(3) and 2706.160(d).

Contact Person for More Information: Jean Ellen (202) 434-9950/(202) 708-9300 for TDD Relay/1-800-877-8339 for toll free.

Jean H. Ellen,
Chief Docket Clerk.

[FR Doc. 2010-5090 Filed 3-5-10; 4:15 pm]

BILLING CODE 6735-01-P